DEPARTMENT OF HEALTH AND HUMAN SERVICES

Office of Community Services

[Program Announcement No. OCS-2002-08]

Notice of Second Request for Applications Under the Office of Community Services Fiscal Year 2002 Assets for Independence Demonstration Program (IDA Program)

AGENCY: Office of Community Services (OCS), Administration for Children and Families, Department of Health and Human Services.

ACTION: Announcement of continuing availability of funds and request for a second round of competitive applications under the Office of Community Services' Assets for Independence Demonstration Program.

SUMMARY: Applications received pursuant to the ACF Program Announcement issued in the Federal Register on April 15, 2002 (69 FR 18312) revealed there is an insufficient number of acceptable applications in the first round of proposal reviews for OCS to fully expend available funds. Therefore, the Office of Community Services announces a second invitation to eligible entities to submit applications pursuant to that announcement. Applications must be received on or before August 5, 2002.

Application Deadline: Applications must be received on or before August 5, 2002 in order to be considered for review and funding.

FOR FURTHER INFORMATION CONTACT: Sheldon Shalit, Administration for Children and Families, Office of Community Services, 370 L'Enfant Promenade, SW., Washington, DC 20447; telephone: 202-401-4807; e-mail: sshalit@acf.hhs.gov.

Dated: July 1, 2002.
Clarence H. Carter,
Director, Office of Community Services.

[FR Doc. 02-17519 Filed 7-11-02; 8:45 am]

BILLING CODE 4184-01-M